FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 2, 2004.

A. Federal Reserve Bank of St. Louis (Randall C. Sumner, Vice President) 411 Locust Street, St. Louis, Missouri 63166-2034:

1. Don Crader Revocable Trust, and Don Crader as trustee, both of Marble Hill, Missouri; to acquire additional voting shares of First Southeast Missouri Bancorporation, Inc., Scott City, Missouri, and thereby indirectlty acquire additional shares of Security Bank and Trust Company, Scott City, Missouri.

B. Federal Reserve Bank of Kansas City (James Hunter, Assistant Vice President) 925 Grand Avenue, Kansas City, Missouri 64198-0001:

1. Joseph L. and Loraine P. Durler, both of Syracuse, Kansas; to acquire additional voting shares of Valley Bancorp. Inc., Syracuse, Kansas, and thereby indirectly acquire additional voting shares of The Valley State Bank, Syracuse, Kansas.

2. Landon N. and Georgia K. Westbrook, both of Purcell, Oklahoma; to acquire additional voting shares of Exchange Bancshares of Moore, Inc., Moore, Oklahoma, and thereby indirectly acquire additional voting shares of Exchange National Bank of Moore, Moore, Oklahoma.

Board of Governors of the Federal Reserve System, December 15, 2003.
Robert deV. Frierson,
Deputy Secretary of the Board.

[FR Doc. E3-00593 Filed 12-18-03; 8:45 am]

BILLING CODE 6210-01-S